DEPARTMENT OF COMMERCE

National Institute of Standards and Technology

Announcing a Meeting of the Information Security and Privacy Advisory Board

AGENCY: National Institute of Standards and Technology.

ACTION: Notice.

SUMMARY: The Information Security and Privacy Advisory Board (ISPAB) will meet Wednesday, January 20, 2010, from 1 p.m. until 5 p.m. All sessions will be open to the public.

DATES: The meeting will be held on Wednesday, January 20, 2010, from 1 p.m. until 5 p.m.

ADDRESSES: The meeting will take place at the National Institute of Standards and Technology (NIST), 100 Bureau Drive, Gaithersburg, MD 20899, Building 101, Room LR-B. Please see admittance instructions in the SUPPLEMENTARY INFORMATION section of this notice.

FOR FURTHER INFORMATION CONTACT: Ms. Pauline Bowen, ISPAB Secretariat, Information Technology Laboratory, National Institute of Standards and Technology, 100 Bureau Drive, Stop 8930, Gaithersburg, MD 20899-8930, telephone: (301) 975-2938.

SUPPLEMENTARY INFORMATION: Pursuant to the Federal Advisory Committee Act, 5 U.S.C. App., notice is hereby given that the Information Security and Privacy Advisory Board (ISPAB) will meet Wednesday, January 20, 2010, from 1 p.m. until 5 p.m. All sessions will be open to the public. The ISPAB was established by the Computer Security Act of 1987 (Pub. L. 100-235) and amended by the Federal Information Security Management Act of 2002 (Pub. L. 107-347) to advise the Secretary of Commerce and the Director of NIST on security and privacy issues pertaining to federal computer systems. Details regarding the ISPAB's activities are available at http://csrc.nist.gov/groups/SMA/ispab/index.html/.

The agenda is expected to include the following items:

—Cloud Computing and the U.S. Government Trusted Internet Connection (TIC) Program working together to provide service and security.

—Board discussion on Certification and Accreditation of federal information systems, current models and discussion on recommending using an initial and continuous monitoring model.

—Applicability of current authentication models for new federal priorities and recommendations for expanded research in identification and authentication.

—Board discussion and recommendations on the Office of Management and Budget proposed security metrics for federal agencies.

Note that agenda items may change without notice because of possible unexpected schedule conflicts of presenters. The final agenda will be posted on the Web site indicated above.

Public Participation: The ISPAB agenda will include a period of time, not to exceed thirty minutes, for oral comments from the public. Each speaker will be limited to five minutes. Members of the public who are interested in speaking are asked to contact the ISPAB Secretariat at the telephone number indicated above. The Board is interested in public comments on the agenda as a whole with specific interest in the following topics due to their impact on security and privacy as new technologies, potential areas of success for the U.S. Government if conducted properly and areas that have a current significant relevance to the Federal Government. The Board is specifically interested in comments concerning the following subjects:

—Cloud Computing and the U.S. Government Trusted Internet Connection (TIC) Program

—U.S. Government Acquisitions Role in Security

—Research and Development for Secure Software

—Security Measurements and Metrics

In addition, written statements are invited and may be submitted to the ISPAB at any time. Written statements should be directed to the ISPAB Secretariat, Information Technology Laboratory, 100 Bureau Drive, Stop 8930, National Institute of Standards and Technology, Gaithersburg, MD 20899-8930. Approximately 15 seats will be available for the public and media.

All visitors to the NIST site will have to pre-register to be admitted. Please submit your name, nationality and e-mail address to Ms. Pauline Bowen no later than c.o.b. Monday, January 18, 2010 for visitor admittance. Non-U.S. Citizens are welcome to attend with the public but additional information will be required to be granted access to NIST and the meeting location. Ms. Bowen's e-mail address is Pauline.bowen@nist.gov and her phone number is (301) 975-2938.

Dated: December 22, 2009.
Marc G. Stanley,
Acting Deputy Director.

[FR Doc. E9-30655 Filed 12-24-09; 8:45 am]

BILLING CODE 3510-13-P